DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action takes effect on the date listed in Supplementary Information.

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or the Assistant Director for Compliance, tel.: 202-622-2490.

SUPPLEMENTARY INFORMATION:

Electronic Availability

The Specially Designated Nationals and Blocked Persons List and additional information concerning OFAC sanctions programs are available on OFAC's website. (https://www.treasury.gov/ofac).

Notice of OFAC Actions

On July 18, 2024, OFAC determined that the property and interests in property subject to U.S. jurisdiction of the following persons are blocked under the relevant sanctions authority listed below.

Individuals

1. CONTEH, Abdul Karim, 9202 C. Calz Tlaxcaltecas int.2 col Mariano Matamoros, Tijuana, Baja California, Mexico; DOB 20 Dec 1984; POB Sierra Leone; nationality Sierra Leone; citizen Sierra Leone; alt. citizen Mexico; Gender Male; Phone Number 23276596773; alt. Phone Number 529622553555; C.U.R.P. COXA841220HNENXB02 (Mexico) (individual) [TCO] (Linked To: ABDUL KARIM CONTEH HUMAN SMUGGLING ORGANIZATION).

Designated pursuant to section 1(a)(ii)(C) of Executive Order 13581 of July 24, 2011, “Blocking Property of Transnational Criminal Organizations,” 76 FR 44757 (July 27, 2011), as amended by Executive Order 13863 of March 15, 2019, “Taking Additional Steps to Address the National Emergency With Respect to Significant Transnational Criminal Organizations,” 84 FR 10255 (March 19, 2019) (E.O. 13581, as amended), for being owned or controlled by, or having acted or purported to act for or on behalf of, directly or indirectly, ABDUL KARIM CONTEH HUMAN SMUGGLING ORGANIZATION, a person whose property and interests in property are blocked pursuant to E.O. 13581, as amended.

2. ROBLERO PIVARAL, Veronica, Tijuana, Baja California, Mexico; DOB 25 Apr 1999; POB Chiapas, Mexico; nationality Mexico; citizen Mexico; Gender Female; Phone Number 526643422541; C.U.R.P. ROPV990425MCSBVR02 (Mexico) (individual) [TCO] (Linked To: ABDUL KARIM CONTEH HUMAN SMUGGLING ORGANIZATION).

Designated pursuant to section 1(a)(ii)(C) of E.O. 13581, as amended, for being owned or controlled by, or having acted or purported to act for or on behalf of, directly or indirectly, ABDUL KARIM CONTEH HUMAN SMUGGLING ORGANIZATION, a person whose property and interests in property are blocked pursuant to E.O. 13581, as amended.

3. PIDOUKOU, Pasaman Francis Marin Abbe (a.k.a. “Kili Cili”), Tijuana, Baja California, Mexico; Mexico City, Mexico; DOB 03 Mar 1973; nationality Togo; citizen Togo; Gender Male; Phone Number 524731040117 (individual) [TCO] (Linked To: ABDUL KARIM CONTEH HUMAN SMUGGLING ORGANIZATION).

Designated pursuant to section 1(a)(ii)(C) of E.O. 13581, as amended, for being owned or controlled by, or having acted or purported to act for or on behalf of, directly or indirectly, ABDUL KARIM CONTEH HUMAN SMUGGLING ORGANIZATION, a person whose property and interests in property are blocked pursuant to E.O. 13581, as amended.

4. KAMARA, Issa, Tijuana, Baja California, Mexico; DOB 17 Jul 1990; nationality Sierra Leone; citizen Sierra Leone; Gender Male; Phone Number 23275356626 (individual) [TCO] (Linked To: ABDUL KARIM CONTEH HUMAN SMUGGLING ORGANIZATION).

Designated pursuant to section 1(a)(ii)(C) of E.O. 13581, as amended, for being owned or controlled by, or having acted or purported to act for or on behalf of, directly or indirectly, ABDUL KARIM CONTEH HUMAN SMUGGLING ORGANIZATION, a person whose property and interests in property are blocked pursuant to E.O. 13581, as amended.

Entity

1. ABDUL KARIM CONTEH HUMAN SMUGGLING ORGANIZATION, Tijuana, Baja California, Mexico; Target Type Criminal Organization [TCO].

Designated pursuant to section 1(a)(ii)(A) of E.O. 13581, as amended, for being a foreign person that constitutes a significant transnational criminal organization.

Dated: July 18, 2024.
Bradley T. Smith,
Director, Office of Foreign Assets Control, U.S. Department of the Treasury.

[FR Doc. 2024-16169 Filed 7-22-24; 8:45 am]

BILLING CODE 4810-AL-P